DEPARTMENT OF COMMERCE

International Trade Administration

[C-533-844]

Certain Lined Paper Products From India: Rescission of Countervailing Duty Administrative Review; 2019

AGENCY: Enforcement and Compliance, International Trade Administration, Department of Commerce.

SUMMARY: The Department of Commerce (Commerce) is rescinding the administrative review of the countervailing duty (CVD) order on certain lined paper products (lined paper) from India for the period of review January 1, 2019, through December 31, 2019.

DATES: Applicable: December 28, 2020.

FOR FURTHER INFORMATION CONTACT: Jolanta Lawska, Office III, AD/CVD Operations, Enforcement and Compliance, International Trade Administration, U.S. Department of Commerce, 1401Constitution Avenue NW, Washington, DC 20230; telephone: (202) 482-8362.

SUPPLEMENTARY INFORMATION:

Background

On September 1, 2020, Commerce published in the Federal Register a notice of opportunity to request an administrative review of the countervailing duty order ¹ on lined paper from India for the period January 1, 2019, through December 31, 2019.² On September 30, 2020, ITC Limited—Education and Stationery Products Business (ITC Limited), M/s.Bhaskar Paper Products (Bhaskar), Dinakar Process Private Limited (Dinakar), and JC Stationery (P) Ltd. (JC Stationery) filed a timely request for an administrative review of the Order with respect to products exported by ITC Limited and manufactured by ITC Limited and its converters Bhaskar, Dinakar, and JC Stationery.³ On that same day, PP Bafna Ventures Private Limited (Bafna), filed a timely request of the Order with respect to itself.⁴ No other interested party submitted a request for review. On October 30, 2020, Commerce published in the Federal Register a notice of initiation of this administrative review.⁵ On November 10, 2020, Bafna timely withdrew its request for an administrative review.⁶ Subsequently, on November 20, 2020, ITC Limited, Bhaskar, Dinakar, and JC Stationery timely withdrew their request for review.⁷

¹ See Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

² See Antidumping or Countervailing Duty Order, Finding, or Suspended Investigation; Opportunity to Request Administrative Review, 85 FR 54349, 54350 (September 1, 2020).

³ See ITC Limited, Bhaskar, Dinakar, and JC Stationery's Letter, “Lined Paper Products from India, C-533-844 Request for Administrative Review,” dated September 30, 2020.

⁴ See Bafna's Letter, “Certain Lined Paper Products from India: Request for Administrative Review of Countervailing Duty of PP Bafna Ventured Private Limited,” dated September 30, 2020.

⁵ See Initiation of Antidumping and Countervailing Duty Administrative Reviews, 85 FR 68840, 68845 (October 30, 2020).

⁶ See Bafna's Letter, “Certain Lined Paper Products from India: Withdrawal of Request for Administrative Review of Countervailing Duty of PP Bafna Ventures Private Limited (PP Bafna),” dated November 10, 2020.

⁷ See ITC Limited, Bhaskar, Dinakar, and JC Stationary's Letter, “Lined Paper Products from India, C-533-844 Withdrawal of Request for Administrative Review,” dated November 20, 2020.

Rescission of Review

Pursuant to 19 CFR 351.213(d)(1), Commerce will rescind an administrative review, in whole or in part, if the party that requested the review withdraws its request within 90 days of the date of publication of the notice of initiation of the requested review. As noted above, Bafna, and ITC Limited, Bhaskar, Dinakar, and JC Stationary, withdrew their requests within the 90-day deadline, and no other party requested an administrative review of the Order. Therefore, we are rescinding, in its entirety, the administrative review of the Order for the period January 1, 2019, through December 31, 2019.

Assessment

Commerce will instruct U.S. Customs and Border Protection (CBP) to assess countervailing duties on all appropriate entries of lined paper from India. Countervailing duties shall be assessed at rates equal to the cash deposit rate of estimated countervailing duties required at the time of entry, or withdrawal from warehouse, for consumption, in accordance with 19 CFR 351.212(c)(1)(i). Commerce intends to issue appropriate assessment instructions to CBP 15 days after publication of this notice in the Federal Register.

Notification Regarding Administrative Protective Order

This notice also serves as a reminder to parties subject to administrative protective order (APO) of their responsibility concerning the disposition of proprietary information disclosed under an APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: December 18, 2020.
James Maeder,
Deputy Assistant Secretary for Antidumping and Countervailing Duty Operations.

[FR Doc. 2020-28593 Filed 12-23-20; 8:45 am]

BILLING CODE 3510-DS-P